DEPARTMENT OF TRANSPORTATION

Research and Special Programs Administration

Pipeline Safety: Required Notification of National Response Center

AGENCY: Research and Special Programs Administration (RSPA), DOT.

ACTION: Notice; issuance of advisory bulletin.

SUMMARY: The Office of Pipeline Safety (OPS) is issuing this advisory to owners and operators of gas distribution, gas transmission, and hazardous liquid pipeline systems, and liquefied natural gas (LNG) facilities. Owners and operators should ensure that telephonic reports of incidents to the National Response Center (NRC) are both prompt and accurate and fully communicate the estimated extent of the damages. Additional reports should be made if there is a significant change in an estimate of the size of the gas or liquid release, the extent of the damage, or the number of deaths or injuries.

OPS is issuing this advisory bulletin to ensure that the National Transportation Safety Board (NTSB) and the OPS are notified (via the NRC) when the information provided in the initial telephonic report significantly changes due to new information available soon after the initial report.

FOR FURTHER INFORMATION CONTACT: Roger Little, (202) 366-4569; or by e-mail, roger.little@rspa.dot.gov. This document can be viewed at the OPS home page at http://ops.dot.gov.

SUPPLEMENTARY INFORMATION:

I. Background

The pipeline safety regulations require gas pipeline, hazardous liquid pipeline, and LNG facility operators to make a telephonic report of a pipeline incident to the NRC in Washington, DC at the earliest practicable opportunity. For the purposes of this document, the term incident will refer to either an incident, an accident, a leak or a spill (the term differs in the regulations depending on whether the release involves gas, hazardous liquid or LNG). The information required to be reported includes the name of the operator, the name and telephone number of the person making the report, the location of the incident, the number of fatalities and injuries, and all other relevant significant facts. (49 CFR 191.5, 193.2011, and 195.52.)

Because an operator is required to make a telephonic report at the earliest practicable moment following discovery, an operator normally provides the first telephonic notification one to two hours after it discovers an incident on its pipeline. Additional information on the nature, cause, and extent of the damage usually becomes available as emergency response proceeds. If this additional information leads to a significant change (greater or lesser) in the estimated amount of product released, the estimated number of fatalities and injuries, the extent of environmental damage, or the extent of property damage, the operator should make an additional telephonic report to the NRC. OPS considers a significant change to include any of the following:

1. An increase or decrease in the number of previously reported injuries or fatalities;

2. A revised estimate of the product release amount that is at least 10 times greater than the amount reported; for example, the initial reported amount of product released was 300 barrels and the revised estimated amount is 3,000 barrels;

3. A revised estimate of the property damage that is at least 10 times greater than the reported property damage estimate; for example, the initial reported amount of damage was 100,000 dollars and the revised estimate is 1,000,000 dollars.

Often when the telephonic report is made, early information on an incident is incomplete. Sometimes, new information changes the understanding of the severity or nature of the incident. Although the telephonic reporting regulations do not state that multiple reports are required, the nature and timing of emergency response are dependent on the information reported to the NRC. It is critical that an operator provide accurate information on the extent of the incident. Therefore, OPS expects an operator to provide significant update information during the emergency response phase. For natural gas or LNG events, the initial emergency response phase usually ends between 24 and 48 hours following an incident. For hazardous liquid events, the initial emergency response phase may last several days as spill clean-up continues. Once the emergency response phase is complete, OPS does not expect an operator to continue to update the NRC throughout long-term recovery or remedial action activities.

Some hazardous liquid operators do not provide an estimated product release amount when reporting an incident to the NRC. OPS recognizes the difficulty in estimating spill amounts, especially if the release is underground or into water. However, OPS's and NTSB's response to the incident may depend on the reported spill size. OPS and NTSB may not investigate a ten barrel spill and may perform an onsite investigation of a 20,000 barrel spill. To get this critical information, OPS is asking the NRC to request operators to provide an estimate of the spill amount. If an estimated amount is not provided, NRC assumes, for emergency notification and response purposes, that a major spill has occurred. Therefore, if the operator does not provide a spill estimate, NRC will enter a default spill estimate of 1,000 barrels. OPS will be notified of all spills over 500 barrels and any spill over 100 barrels that impacts water.

In providing information on significant changes from the original telephonic report, operators need to be aware that the NRC does not update a prior report, but, instead, accepts additional reports. An operator should tell the NRC representative if a previous report was filed for the incident and provide the NRC Report Number of the original telephonic.

II. Advisory Bulletin (ADB-02-04)

To: Owners and Operators of Gas Distribution, Gas Transmission, and Hazardous Liquid Pipelines, and LNG Facilities

Subject: Telephonic Notification to NRC

Purpose: To advise owners and operators of gas distribution, gas transmission, and hazardous liquid pipeline systems and LNG facilities of the need to promptly contact the NRC after a pipeline incident is discovered and to file additional telephonic reports if there are significant changes in the number of fatalities or injuries, product release estimates or the extent of damages.

Advisory: Owners and operators of gas and hazardous liquid pipelines and LNG facilities are reminded that the pipeline safety regulations require operators to make a telephonic report of an incident to the NRC in Washington, DC at the earliest practicable opportunity, usually one to two hours after discovering the incident. The information required to be reported includes the name of the operator, the name and telephone number of the person making the report, the location of the incident, the number of fatalities and injuries, and all other significant facts that are relevant to the cause of the incident or extent of the damages. (49 CFR 191.5, 193.2011, and 195.52.)

If, during the emergency response period, additional information about the incident becomes available that shows a significant change in the number of fatalities and injuries, product release estimate, or the extent of property damage, an additional report to the NRC will be necessary. Although the regulation does not state that additional revised reports are required, it is important for emergency response purposes that the NRC be given accurate information on the extent of the incident.

The NRC will accept additional reports, but will not update a previous report. Therefore, operators should file an additional report(s) when circumstances and estimates change significantly. An operator should provide an estimate of the damage in the initial report and in any subsequent report. The operator should include the NRC Report Number of the initial report when making a subsequent report. If an operator reports that a damage estimate is unknown or unavailable, the NRC will assume that a major spill has taken place for emergency notification and response purposes.

Issued in Washington, DC, on August 30, 2002.
James K. O'Steen,
Deputy Associate Administrator for Pipeline Safety.

[FR Doc. 02-22734 Filed 9-5-02; 8:45 am]

BILLING CODE 4910-60-P